DEPARTMENT OF JUSTICE

Notice of Lodging of Proposed Consent Decree

In accordance with Departmental Policy, 28 CFR 50.7, notice is hereby given that a proposed Consent Decree in United States v. Robert Yundt Homes, LLC, et al., No. 3:23-cv-00073-JMK, was lodged with the United States District Court for the District of Alaska on July 24, 2023.

This proposed Consent Decree concerns a complaint filed by the United States against Defendants Robert Yundt Homes, LLC, and Robert D. Yundt II, pursuant to sections 309(b) and (d) of the Clean Water Act, 33 U.S.C. 1319(b) and (d), to obtain injunctive relief from and impose civil penalties against Defendants for violating the Clean Water Act by discharging pollutants without a permit into waters of the United States and violating Administrative Orders on Consent issued by the United States Environmental Protection Agency (EPA). The proposed Consent Decree resolves these allegations by requiring Defendants to restore the impacted areas, perform mitigation pursuant to EPA-approved restoration plans, and pay a civil penalty.

The Department of Justice will accept written comments relating to this proposed Consent Decree for 30 days from the date of publication of this Notice. Please address comments to Daniel J. Martin, United States Department of Justice, Environment and Natural Resources Division, Environmental Defense Section, Post Office Box 7611, Washington, DC 20044, or pubcomment_eds.enrd@usdoj.gov, and refer to United States v. Robert Yundt Homes, LLC, et al., DJ # 90-5-1-1-22275.

The proposed Consent Decree may be examined at the Clerk's Office, United States District Court for the District of Alaska, James M. Fitzgerald United States Courthouse and Federal Building, 222 West 7th Avenue, Room 229, Anchorage, AK 99513. In addition, the proposed Consent Decree may be examined electronically at http://www.justice.gov/enrd/consent-decrees.

Cherie Rogers,
Assistant Section Chief, Environmental Defense Section, Environment and Natural Resources Division.

[FR Doc. 2023-16084 Filed 7-28-23; 8:45 am]

BILLING CODE P